DEPARTMENT OF AGRICULTURE

Submission for OMB Review; Comment Request

March 1, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: WIC Infant and Toddler Feeding Practices Study-2 (ITFPS-2).

OMB Control Number: 0584-NEW.

Summary of Collection: The Healthy, Hunger-Free Kids Act of 2010 (Pub. L. 111-296, Sec. 305) mandates programs under its authorization, including WIC, to cooperate with USDA program research and evaluation activities. The United States Department of Agriculture's (USDA) Special Supplemental Nutrition Program for Women, Infants and Children (WIC) serves a highly-vulnerable population low-income pregnant and post-partum women, infants, and children through their fifth birthday who are at nutritional risk. The program provides supplemental food packages, health referrals and nutrition education for participants. The current study is a new information collection titled the “WIC Infant and Toddler Feeding Practices Study-2 (WIC ITEFPS-2).” The study is needed to update information on the WIC Infant Feeding Practices Study (WIC IFPS-1), which was conducted in the fall of 1994, and only collected data on infants. Since that time WIC infant feeding practices may have changed in important ways, particularly since the new WIC food packages were introduced in 2009, and the program has instituted a greater emphasis on nutrition education and breastfeeding.

Need and Use of the Information: The Food and Nutrition Service (FNS) will collect information from the study to understand the nutritional intake and feeding patterns within the WIC population to assist in the development of appropriate and effective prevention strategies to improve the health of young children. If the study is not conducted, FNS will not have current information on the feeding practices and dietary intakes of WIC infants and toddlers or WIC operations for making policy decision about WIC services and nutrition education.

Description of Respondents: Not-for-profit institutions; Individual or households; Business or other for-profit; State, Local or Tribal Government.

Number of Respondents: 13,504.

Frequency of Responses: Reporting: On occasion; Other (alt month).

Total Burden Hours: 5,094.

Food and Nutrition Service

Title: An Assessment of the Roles and Effectiveness of Community-Based Organizations in the Supplemental Nutrition Assistance Program.

OMB Control Number: 0584-NEW.

Summary of Collection: Section 17 (U.S.C. 2026 (a) (1)) of the Food and Nutrition Act of 2008 provides general legislative authority for the planned data collection. It authorizes the Secretary of Agriculture to enter into contracts with private institutions to undertake research that will help to improve the administration and effectiveness of SNAP in delivering nutrition-related benefits. To provide more timely and efficient services to the growing number of SNAP applicants, State and local SNAP offices are partnering with community-based organizations (CBOs) that have the capacity to conduct applicant interviews for SNAP. The Food and Nutrition Service (FNS) has approved these partnerships as part of a demonstration of “Community Partner Interviewer Projects.” Although these projects have existed for several years, they have never been fully evaluated. FNS will collect information using a customer satisfaction survey and in-depth interviews with staff at State or local agencies and CBOs.

Need and Use of the Information: The purpose of the information collection is to support research that assesses the roles and effectiveness of CBOs that are serving as representatives of the SNAP State agencies during the SNAP interview. If the information is not collected FNS will not have critical information for assessing the impact of the demonstrations.

Description of Respondents: Individual or households; Not-for-profit institutions; State, Local or Tribal Government.

Number of Respondents: 2,807.

Frequency of Responses: Reporting: On occasion; Other (One-time).

Total Burden Hours: 1,144.

Ruth Brown,
Departmental Information Collection Clearance Officer.

[FR Doc. 2013-05343 Filed 3-6-13; 8:45 am]

BILLING CODE 3410-30-P